NUCLEAR REGULATORY COMMISSION

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a current valid OMB control number.

1. Type of submission, new, revision, or extension: Extension.

2. The title of the information collection: 10 CFR 31, General Domestic Licenses for Byproduct Material.

3. The form number if applicable: Not applicable.

4. How often the collection is required: Reports are submitted as events occur. Registration certificates may be submitted at any time. Changes to the information on the registration certificate are submitted as they occur.

5. Who will be required or asked to report: Persons receiving, possessing, using, or transferring byproduct material in certain items.

6. An estimate of the number of responses: 51,205 (1977 NRC responses + 6600 NRC recordkeepers + 16,228 Agreement State responses + 26,400 Agreement State recordkeepers).

7. The estimated number of annual respondents: Approximately 6,600 NRC general licensees and 26,400 Agreement State general licensees.

8. An estimate of the number of hours needed annually to complete the requirement or request: 15,118 (2,474 hours for NRC licensees [1,650 hours recordkeeping and 824 hours reporting] and 12,644 hours for Agreement State licensees [6,600 hours recordkeeping and 6,044 hours reporting] or an average of 0.4 hours per response and .25 hours per recordkeeper).

9. An indication of whether Section 3507(d), Pub. L. 104-13 applies: Not applicable.

10. Abstract: 10 CFR part 31 establishes general licenses for the possession and use of byproduct material in certain items and a general license for ownership of byproduct material. General licensees are required to keep records and submit reports identified in part 31 in order for NRC to determine with reasonable assurance that devices are operated safely and without radiological hazard to users or the public.

A copy of the final supporting statement may be viewed free of charge at the NRC Public Document Room, One White Flint North, 11555 Rockville Pike, Room O-1 F23, Rockville, MD 20852. OMB clearance requests are available at the NRC worldwide Web site: http://www.nrc.gov/public-involve/doc-comment/omb/index.html. The document will be available on the NRC home page site for 60 days after the signature date of this notice.

Comments and questions should be directed to the OMB reviewer listed below by August 4, 2005. Comments received after this date will be considered if it is practical to do so, but assurance of consideration cannot be given to comments received after this date. John Asalone, Office of Information and Regulatory Affairs (3150-0016), NEOB-10202, Office of Management and Budget, Washington, DC 20503.

Comments can also be e-mailed to John_A._Asalone@omb.eop.gov or submitted by telephone at (202) 395-4650.

The NRC Clearance Officer is Brenda Jo. Shelton, 301-415-7233.

Dated in Rockville, Maryland, this 28th day of June, 2005.
For the Nuclear Regulatory Commission.
Beth C. St. Mary,
Acting NRC Clearance Officer, Office of Information Services.

[FR Doc. E5-3485 Filed 7-1-05; 8:45 am]

BILLING CODE 7590-01-P